NATIONAL FOUNDATION ON THE ARTS AND THE HUMANITIES

National Endowment for the Arts

Arts Advisory Panel

Pursuant to Section 10(a)(2) of the Federal Advisory Committee Act (Pub. L. 92-463), as amended, notice is hereby given that six meetings of the Arts Advisory Panel to the National Council on the Arts will be held at the Nancy Hanks Center, 1100 Pennsylvania Avenue, NW., Washington, DC, 20506 as follows:

Arts Education (Learning in the Arts for Children & Youth Panel #4): October 17-19, 2005 in Room 716. A portion of this meeting, from 3:30 p.m. to 4:15 p.m. on Wednesday, October 19th, will be open to the public for policy discussion. The remainder of the meeting, from 9 a.m. to 6 p.m. on October 17th and October 18th, and from 9 a.m. to 3:30 p.m. and from 4:15 p.m. to 5 p.m. on October 19th, will be closed.

Arts Education (Learning in the Arts for Children & Youth Panel #5): October 20-21, 2005 in Room 716. A portion of this meeting, from 3:30 p.m. to 4:15 p.m. on Friday, October 21st, will be open to the public for policy discussion. The remainder of the meeting, from 9 a.m. to 6 p.m. on October 20th, and from 9 a.m. to 3:30 p.m. and from 4:15 p.m. to 5 p.m. on October 21st, will be closed.

Arts Education (Learning in the Arts for Children & Youth Panel #6): October 24-25, 2005 in Room 716. A portion of this meeting, from 5:30 p.m. to 6 p.m. on Tuesday, October 25th, will be open to the public for policy discussion. The remainder of the meeting, from 9 a.m. to 6:30 p.m. on October 24th, and from 9 a.m. to 5:30 p.m. and from 6 p.m. to 6:30 p.m. on October 25th, will be closed.

Arts Education (Learning in the Arts for Children & Youth Panel #7): October 26-28, 2005 in Room 716. A portion of this meeting, from 3:30 p.m. to 4:15 p.m. on Friday, October 28th, will be open to the public for policy discussion. The remainder of the meeting, from 9 a.m. to 5:45 p.m. on October 26th and October 27th, and from 9 a.m. to 3:30 p.m. and from 4:15 p.m. to 4:45 p.m. on October 28th, will be closed.

Media Arts (Access to Artistic Excellence): November 7-9, 2005 in Room 730. This meeting, from 9 a.m. to 5:30 p.m. on November 7th and November 8th, and from 9 a.m. to 3 p.m. on November 9th, will be closed.

Visual Arts (Access to Artistic Excellence): November 8-10, 2005 in Room 716. This meeting, from 9 a.m. to 5:30 p.m. on November 8th and November 9th, and from 9 a.m. to 4 p.m. on November 10th, will be closed.

The closed portions of meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Further information with reference to these meetings can be obtained from Ms. Kathy Plowitz-Worden, Office of Guidelines & Panel Operations, National Endowment for the Arts, Washington, DC, 20506, or call 202/682-5691.

Dated: September 14, 2005.
Kathy Plowitz-Worden,
Panel Coordinator, Panel Operations, National Endowment for the Arts.

[FR Doc. 05-18856 Filed 9-20-05; 8:45 am]

BILLING CODE 7537-01-U